DEPARTMENT OF COMMERCE

National Oceanic and Atmospheric Administration

50 CFR Part 216

[Docket No. 180627584-9388-01]

RIN 0648-BI00

Taking and Importing Marine Mammals; Taking Marine Mammals Incidental to Construction and Operation of the Liberty Drilling and Production Island, Beaufort Sea, Alaska; Reopening of Public Comment Period

AGENCY: National Marine Fisheries Service (NMFS), National Oceanic and Atmospheric Administration (NOAA), Commerce.

ACTION: Proposed rule; reopening of public comment period.

SUMMARY: We, the National Marine Fisheries Service (NMFS), are reopening the public comment period on the proposed rule under the Marine Mammal Protection Act (MMPA) to authorize the taking of marine mammals, by mortality, serious injury, Level A harassment, and Level B harassment, incidental to the construction and operation of the Liberty Drilling and Production Island, Beaufort Sea, Alaska. The comment period for the proposed rule that published on May 29, 2019 closed on June 28, 2019. NMFS is reopening the public comment period until July 31, 2019, to provide the public with additional time to submit information and to comment on this proposed rule.

DATES: Written comments on the proposed rule must be received by July 31, 2019. Comments received between the close of the first comment period on June 28, 2019 (84 FR 24926), and the reopening of the comment period on July 9, 2019 will be considered timely received.

ADDRESSES: You may submit comments, information, or data on the proposed rule, identified by NOAA-2019-0053, by either of the following methods:

• Electronic Submission: Submit all electronic comments via the Federal eRulemaking Portal. Go to www.regulations.gov/#!docketDetail;D=NOAA-2019-0053, click the “Comment Now!” icon, complete the required fields, and enter or attach your comments.

• Mail: Submit written comments to Jolie Harrison, Division Chief, Permits and Conservation Division, Office of Protected Resources, National Marine Fisheries Service, 1315 East-West Highway, Silver Spring, Maryland 20910, Attn: Hilcorp Liberty Proposed Rule.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. We will accept anonymous comments (enter “N/A” in the required fields if you wish to remain anonymous). Attachments to electronic comments will be accepted in Microsoft Word, Excel, or Adobe PDF file formats only.

FOR FURTHER INFORMATION CONTACT: Jaclyn Daly, Office of Protected Resources, NMFS, (301) 427-8401.

SUPPLEMENTARY INFORMATION:

Background

On May 28, 2019, we published a proposed rule to authorize the taking of marine mammals incidental to the construction and operation of the Liberty Drilling and Production Island, Beaufort Sea, Alaska. The proposed rule allowed for a 30-day public comment period, which ended on June 28, 2019. On June 26, 2019, we received a request from the Alaska Eskimo Whaling Commission (AEWC) requesting a 30-day extension of the comment period. The request indicated that the AEWC and North Slope Borough required more time to conduct their review of the proposed rule and associated documents and provide comments. Due to the timing of the request, it was not feasible to publish a notice in the Federal Register announcing a comment period extension prior to the close of the initial public comment period. Therefore, we are reopening the public comment period until July 31, 2019, to receive additional information and comments that may be relevant to any aspect of the proposal. Comments and information submitted during the prior comment period will be fully considered in the preparation of the final rule and need not be resubmitted.

NMFS also takes this opportunity to note that, due to changes in Hilcorp's proposed schedule for this proposed project, the dates of the proposed regulations would be shifted one year later than the dates in the proposed rule. Under this revised schedule, the proposed regulations would be valid for a period of 5 years from December 1, 2021, through November 30, 2026. This change shifts all of the proposed dates for the project one year later, but it does not otherwise affect any of NMFS' analyses or conclusions.

Dated: July 3, 2019.
Alan D. Risenhoover,
Acting Deputy Assistant Administrator for Regulatory Programs, National Marine Fisheries Service.

[FR Doc. 2019-14529 Filed 7-8-19; 8:45 am]

BILLING CODE 3510-22-P